NATIONAL COMMISSION ON LIBRARIES AND INFORMATION SCIENCE

Public Meeting

Date, Time, and Place: Monday, December 4, 2000 from 1:00 p.m. to 5:00 p.m., 342 Dirksen Senate Office Building, First Street and Constitution Avenue, NE., Washington, DC.

Matter To Be Discussed: The public is invited to comment on the proposed recommendations of the National Commission on Libraries and Information Science (NCLIS) resulting from the comprehensive assessment of public information dissemination policies and practices. Information about the assessment is available on the Commission website at http://www.nclis.gov/govt/assess/assess.html. The Commission's final report to Congress must be completed by December 15, 2000.

Written comments must be received not later than 9 a.m. Monday, December 11, 2000. Comments may be submitted to the Commission by mail at 1110 Vermont Avenue, NW., Washington, DC 20005-3552, Attn: F. Woody Horton, Ph.D., by fax to 202-606-9203, or by e-mail to whorton@nclis.gov.

Individuals and organizations desiring to participate in the public meeting should contact NCLIS Deputy Director Judith C. Russell by fax at 202-606-9203 or by e-mail to jrussell@nclis.gov, identifying the speaker and the organization(s) represented by the speaker. Each speaker should bring at least thirty copies of their statement to the meeting as well as providing an electronic copy to the Commission, preferably by e-mail to jrussell@nclis.gov. Oral presentations will be limited to five minutes. There will be an opportunity to respond to questions from the Commission, and if time permits, there will be an opportunity for further comments from the audience once all scheduled speakers have made their presentations.

The Commission will select speakers to represent the widest possible range of organizations and points of view in the available time. The Commission is particularly interested in hearing from end users of government information, such as students from elementary school through graduate school, senior citizens, individuals with disabilities, individuals from rural communities, individuals who are economically disadvantaged, researchers, employees of state, local or tribal governments, and small business owners. Other speakers are also welcome, including intermediaries who assist users with government information, such as librarians, information specialists and value-added providers, and representatives of Federal agency information dissemination programs.

Background

The assessment was initiated by NCLIS at the request of Senator John McCain, Chairman, Senate Committee on Commerce, Science, and Transportation and Senator Joseph Lieberman, Ranking Minority Member, Senate Committee on Governmental Affairs. The Commission was asked to identify reforms necessary in the federal government's public information dissemination policies and practices.

The Commission's proposed strategic recommendations were presented at the Commission meeting on November 15, 2000. As a result of that meeting, the Commission decided to hold a public meeting on the December 4th to provide for additional public comment.

In this report the Commission states that the Federal government's public information is a critical national resource that must be exploited to the fullest extent possible. The Commission contends that public information resources are no less important to the nation's economic and social livelihood than are its human, financial, capital, and natural resources. However, exploiting the full potential benefits and values of this resource has not been given top-level national focus, attention, and support.

The Commission believes that there is a missing building block in the nation's public information statutory foundation. A new law is needed, not only to put in place the concept of treating public information as a strategic national asset, but also to make clear the obligation of all government agencies with respect to their public information resources. To that end, every mission agency's authorizing legislation should have a standard clause mandating the dissemination of information to the public, and agencies should directly budget for the cost of implementing that recommendation in their annual budgets.

Diffusing the government's public information resources proactively, broadly, and pervasively throughout all sectors of the economy and the society, for the benefit of all Americans, is a positive, social and moral construct which must be crafted in crystal clear terms in new legislation which spells out both agency obligations and overall national policy leadership and oversight needs.

The complete draft report should be available on the Commission website by Monday, November 27, 2000. A draft Executive Summary of the final report is available at http://www.nclis.gov/govt/assess/execsum.pdf.

The proposed legislation should be read and evaluated in the context of the strategic recommendations in the Commission's draft report. The purpose of the proposed legislation is to bring together in a systematic fashion all of the key elements necessary for comprehensive public information resources management and to elevate the importance of Federal government public information resources to the status of a strategic national asset. It also includes the creation of government-wide information dissemination budget line item in the President's budget and in each agency budget. The Commission believes that this legislative proposal is the best means for implementation of its recommendations because it will draw attention to the issues and create a debate about appropriate solutions. However, many of the Commission's recommendations can and should be implemented, whether or not the proposed legislation is acted upon by the Congress.

Excerpts from the Commission's proposed legislation, The Public Information Resources Reform Act of 2001, are available at http://www.nclis.gov/govt/assess/legisum.pdf, as are related fact sheets. In this legislative proposal, the Commission recommends establishment of a public information resources agency in each branch of government. A Fact Sheet summarizing the duties and responsibilities of each agency and explaining how inter-branch coordination is to be accomplished can be found on at http://www.nclis.gov/govt/assess/branch.html. A second fact sheet summarizing the Commission's recommendations for strengthening of the Federal Depository Library Program is available at http://www.nclis.gov/govt/assess/fdlpfact.html. Additional fact sheets may be added as needed.

FOR FURTHER INFORMATION CONTACT: To request further information or to make special arrangements for persons with disabilities, contact Judith C. Russell by telephone at 202-606-9200, by fax at 202-606-9203 or by e-mail to jrussell@nclis.gov, no later than Wednesday, November 29, 2000.

Dated: November 20, 2000.
Robert S. Willard,
NCLIS Executive Director.

[FR Doc. 00-30063 Filed 11-22-00; 8:45 am]

BILLING CODE 7527-01-P